FEDERAL RESERVE SYSTEM

Formations of, Acquisitions by, and Mergers of Bank Holding Companies;

Correction

In the Federal Register of December 26, 2024, FR Doc. 2024-30728, the notice “Notice of Proposals To Engage in or To Acquire Companies Engaged in Permissible Nonbanking Activities” by the Federal Reserve Bank of Chicago, Marathon MHC, Wausau, Wisconsin; is corrected to read “Formations of, Acquisitions by, and Mergers of Bank Holding Companies”, and that the company listed applied to the Board for approval, pursuant to the Bank Holding Company Act of 1956 (12 U.S.C. 1841 et seq.), Regulation Y (12 CFR part 225), and all other applicable statutes and regulations, to become a bank holding company and/or to acquire the assets or the ownership of, control of, or the power to vote shares of a bank or bank holding company and all of the banks and nonbanking companies owned by the bank holding company. In addition, the notice is corrected to read that the entities listed as savings and loan holding companies are bank holding companies. The comment period continues to end on January 27, 2025. Interested persons may continue to view the notice and submit comments as provided in 89 FR 105048 (December 26, 2024) no later than January 27, 2025.

Board of Governors of the Federal Reserve System.
Michele Taylor Fennell,
Associate Secretary of the Board.

[FR Doc. 2025-00832 Filed 1-14-25; 8:45 am]

BILLING CODE P